DEPARTMENT OF ENERGY

Federal Energy Regulatory Commission

Combined Notice of Filings #1

Take notice that the Commission received the following electric rate filings:

Docket Numbers: ER10-1410-005; ER10-1823-003; ER16-1750-008; ER20-2768-003; ER20-2123-003; ER17-2381-005; ER17-2292-006; ER16-2601-006; ER19-1656-005.

Applicants: Wilkinson Solar LLC, Summit Farms Solar, LLC, Southampton Solar, LLC, Scott-II Solar LLC, Hardin Solar Energy LLC, Greensville County Solar Project, LLC, Eastern Shore Solar LLC, Dominion Energy Marketing, Inc., Virginia Electric and Power Company.

Description: Dominion Energy Services, Inc. submits Supplemental Information to the March 1, 2022 Compliance Filing.

Filed Date: 3/4/22.

Accession Number: 20220304-5295.

Comment Date: 5 p.m. ET 3/25/22.

Docket Numbers: ER10-1484-025; ER12-2381-011; ER13-1069-014.

Applicants: MP2 Energy LLC, MP2 Energy NE LLC, Shell Energy North America (US), L.P.

Description: Notice of Change in Status of Shell Energy North America (US), L.P, et al.

Filed Date: 3/3/22.

Accession Number: 20220303-5263.

Comment Date: 5 p.m. ET 3/24/22.

Docket Numbers: ER10-2136-018; ER11-4044-028; ER11-4046-027; ER16-1720-020; ER21-2137-004.

Applicants: IR Energy Management LLC, Invenergy Energy Management LLC, Gratiot County Wind II LLC, Gratiot County Wind LLC, Invenergy Cannon Falls LLC.

Description: Notice of Change in Status of Invenergy Cannon Falls LLC, et al.

Filed Date: 3/3/22.

Accession Number: 20220303-5260.

Comment Date: 5 p.m. ET 3/24/22.

Docket Numbers: ER15-1418-015; ER15-1883-015; ER21-2294-003; ER22-415-003; ER21-2304-003; ER16-632-014; ER20-819-008; ER20-820-007; ER13-1991-021; ER13-1992-021; ER10-1852-063; ER10-1890-021; ER11-2160-021; ER13-2112-016; ER16-90-014; ER17-2340-011; ER15-2477-014; ER10-1962-021; ER15-1375-015; ER20-2695-006; ER16-2443-011; ER17-838-040; ER10-1951-043; ER11-4462-065; ER11-4677-021; ER12-2444-020; ER12-676-017; ER15-1016-014; ER15-2243-012; ER11-4678-021; ER17-582-013; ER17-583-013; ER12-631-022; ER21-1813-005; ER21-1814-005.

Applicants: Yellow Pine Energy Center II, LLC, Yellow Pine Energy Center I, LLC, Windpower Partners 1993, LLC, Whitney Point Solar, LLC, Westside Solar, LLC, Vasco Winds, LLC, Silver State Solar Power South, LLC, Shafter Solar, LLC, Perrin Ranch Wind, LLC, North Sky River Energy, LLC, NextEra Energy Montezuma II Wind, LLC, NEPM II, LLC, NextEra Energy Services Massachusetts, LLC, NextEra Energy Marketing, LLC, NextEra Blythe Solar Energy Center, LLC, Mohave County Wind Farm LLC, McCoy Solar, LLC, High Winds, LLC, Golden Hills Wind, LLC, Golden Hills North Wind, LLC, Golden Hills Interconnection, LLC, Genesis Solar, LLC, FPL Energy Montezuma Wind, LLC, FPL Energy Green Power Wind, LLC, Florida Power & Light Company, Desert Sunlight 300, LLC, Desert Sunlight 250, LLC, Blythe Solar IV, LLC, Blythe Solar III, LLC, Blythe Solar II, LLC, Arlington Solar, LLC, Arlington Energy Center III, LLC, Arlington Energy Center II, LLC, Adelanto Solar, LLC, Adelanto Solar II, LLC.

Description: Notice of Change in Status of Adelanto Solar II, LLC et al.

Filed Date: 3/3/22.

Accession Number: 20220303-5267.

Comment Date: 5 p.m. ET 3/24/22.

Docket Numbers: ER19-1575-007; ER14-2871-018; ER16-182-013; ER20-71-006; ER20-72-006; ER17-47-010; ER21-1369-003; ER21-1371-003; ER21-1373-004; ER21-1376-004; ER18-2241-006; ER19-426-006; ER19-427-006; ER19-1660-006; ER19-1662-006; ER20-75-006; ER10-2488-024; ER15-621-017; ER20-77-006; ER15-622-017; ER21-2782-002; ER22-149-002; ER15-463-017; ER16-72-013; ER20-76-008; ER17-48-011; ER19-1667-006; ER13-1586-019; ER21-1368-002; ER16-902-010; ER18-47-009; ER18-47-010; ER20-79-006; ER18-2240-006.

Applicants: Yavi Energy, LLC, Voyager Wind IV Expansion, LLC, Voyager Wind II, LLC, Voyager Wind I, LLC, Valley Center ESS, LLC, TGP Energy Management, LLC, Terra-Gen VG Wind, LLC, Terra-Gen Mojave Windfarms, LLC, ES 1A Group 2 Opco, LLC, ES 1A Group 3 Opco, LLC, San Gorgonio Westwinds II—Windustries, LLC, San Gorgonio Westwinds II, LLC, Sagebrush Line, LLC, Sagebrush ESS, LLC, Ridgetop Energy, LLC, Painted Hills Wind Holdings, LLC, Pacific Crest Power, LLC, Oasis Power Partners, LLC, Oasis Alta, LLC, Mojave 16/17/18 LLC, Mojave 3/4/5 LLC, LUZ Solar Partners IX, Ltd., LUZ Solar Partners VIII, Ltd., Garnet Wind, LLC, Tehachapi Plains Wind, LLC, Edwards Sanborn Storage II, LLC, Edwards Sanborn Storage I, LLC, DifWind Farms LTD VI, Coachella Wind Holdings, LLC, Coachella Hills Wind, LLC, Cameron Ridge II, LLC, Cameron Ridge, LLC, Alta Oak Realty, LLC.

Description: Notice of Non-Material Change in Status of Alta Oak Realty, LLC, et al.

Filed Date: 3/3/22.

Accession Number: 20220303-5261.

Comment Date: 5 p.m. ET 3/24/22.

Docket Numbers: ER19-2373-008; ER10-2005-025; ER11-26-025; ER10-1841-025; ER20-1987-007; ER20-1769-006; ER20-122-006; ER19-2461-008; ER19-987-012; ER19-1003-012; ER22-381-003; ER19-2437-008; ER19-1393-012; ER19-1394-012; ER10-1852-064; ER10-1918-025; ER10-1907-024; ER10-1950-025; ER19-2398-010; ER18-2246-014; ER21-1953-004; ER20-2690-006; ER18-1771-014; ER16-1872-015; ER11-4462-066; ER10-1970-024; ER17-838-041; ER10-1972-024; ER10-1951-044; ER20-1220-006; ER20-1879-007; ER16-2506-017; ER18-2224-015; ER13-2461-019; ER19-2382-008; ER17-2270-016; ER12-1660-024; ER13-2458-019.

Applicants: Tuscola Wind II, LLC, Tuscola Bay Wind, LLC, Stuttgart Solar, LLC, Story County Wind, LLC, Pheasant Run Wind, LLC, Pegasus Wind, LLC, Oliver Wind III, LLC, Oliver Wind I, LLC, Oliver Wind II, LLC, NextEra Energy Services Massachusetts, LLC, NextEra Energy Point Beach, LLC, NextEra Energy Marketing, LLC, NextEra Energy Duane Arnold, LLC, NEPM II, LLC, Marshall Solar, LLC, Langdon Renewables, LLC, Jordan Creek Wind Farm LLC, Heartland Divide Wind II, LLC, Heartland Divide Wind Project, LLC, Hancock County Wind, LLC, Garden Wind, LLC, FPL Energy North Dakota Wind, LLC, FPL Energy North Dakota Wind II, LLC, Florida Power & Light Company, Endeavor Wind II, LLC, Endeavor Wind I, LLC, Emmons-Logan Wind, LLC, Dunns Bridge Solar Center, LLC, Crystal Lake Wind Energy II, LLC, Crystal Lake Wind Energy I, LLC, Crowned Ridge Wind, LLC, Crowned Ridge Interconnection, LLC, Chicot Solar, LLC, Cerro Gordo Wind, LLC, Butler Ridge Wind Energy Center, LLC, Ashtabula Wind III, LLC, Ashtabula Wind II, LLC, Ashtabula Wind I, LLC.

Description: Notice of Change in Status of Butler Ridge Wind Energy Center, LLC, et al.

Filed Date: 3/3/22.

Accession Number: 20220303-5268.

Comment Date: 5 p.m. ET 3/24/22.

Docket Numbers: ER22-1217-000.

Applicants: Cheyenne Light, Fuel and Power Company.

Description: § 205(d) Rate Filing: Filing of Engineering and Procurement Agreement to be effective 3/15/2022.

Filed Date: 3/7/22.

Accession Number: 20220307-5192.

Comment Date: 5 p.m. ET 3/28/22.

Docket Numbers: ER22-1218-000.

Applicants: Idaho Power Company.

Description: § 205(d) Rate Filing: SA 434—Black Mesa Non-Conforming LGIA to be effective 2/23/2022.

Filed Date: 3/7/22.

Accession Number: 20220307-5196.

Comment Date: 5 p.m. ET 3/28/22.

Docket Numbers: ER22-1219-000.

Applicants: PacifiCorp.

Description: Order No. 676-J Compliance Filing of PacifiCorp.

Filed Date: 3/2/22.

Accession Number: 20220302-5303.

Comment Date: 5 p.m. ET 3/23/22.

Docket Numbers: ER22-1220-000.

Applicants: Avista Corporation.

Description: Order No. 676-J Compliance Filing of Avista Corporation.

Filed Date: 3/2/22.

Accession Number: 20220302-5304.

Comment Date: 5 p.m. ET 3/23/22.

Docket Numbers: ER22-1225-000.

Applicants: Navajo Tribal Utility Authority.

Description: Petition for Limited Waiver of Navajo Tribal Utility Authority.

Filed Date: 3/4/22.

Accession Number: 20220304-5296.

Comment Date: 5 p.m. ET 3/25/22.

Docket Numbers: ER22-1227-000.

Applicants: Martins Creek, LLC.

Description: § 205(d) Rate Filing: Proposed Revisions to Reactive Service Rate Schedule and Request for Waivers to be effective 4/1/2022.

Filed Date: 3/8/22.

Accession Number: 20220308-5092.

Comment Date: 5 p.m. ET 3/29/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 8, 2022.
Debbie-Anne A. Reese,
Deputy Secretary.

[FR Doc. 2022-05327 Filed 3-11-22; 8:45 am]

BILLING CODE 6717-01-P